DEPARTMENT OF EDUCATION

[CFDA No.: 84.007, 84.033, and 84.038]

Office of Student Financial Assistance; Federal Perkins Loan, Federal Work-Study, and Federal Supplemental Educational Opportunity Grant Programs; Notice of the Closing Date for the Submission of the Fiscal Operations Report for the 2000-2001 Award Year and Application to Participate for the 2002-2003 Award Year (FISAP) in the Federal Perkins Loan, Federal Supplemental Educational Opportunity Grant (FSEOG), and Federal Work-Study (FWS) Programs

SUMMARY: The Secretary gives notice to institutions of higher education of the deadline for an institution to apply for fiscal year 2002 funds—for use in the 2002-2003 award year (July 1, 2002 through June 30, 2003)—under the Federal Perkins Loan, FWS, and FSEOG programs. Under these programs, the Secretary allocates funds to institutions for students who need financial aid to meet the costs of postsecondary education. An institution is not required to establish eligibility prior to applying for funds. However, the Secretary will not allocate funds under the Federal Perkins Loan, FWS, and FSEOG programs for the 2002-2003 award year to any currently ineligible institution unless the institution files its institutional participation application and other documents required for an eligibility and certification determination by the closing date that will appear in a separate notice in the Federal Register.

The Secretary further gives notice that an institution that had a Federal Perkins Loan Fund or expended FWS or FSEOG funds during the 2000-2001 award year (July 1, 2000 through June 30, 2001) is required to submit a Fiscal Operations Report to the Secretary to report its program expenditures as of June 30, 2001. Institutions perform both functions in one document called the FISAP.

Applicants that did not participate in the Federal Perkins Loan Program, FWS Program, or FSEOG Program in the 2000-2001 award year will be required only to submit data for the application portion of the FISAP.

FISAPs must be submitted electronically. Therefore, an institution also must complete and submit a “combined certification and signature pages form,” consisting of the original FISAP signature page and the combined lobbying, debarment, and drug-free workplace certifications for the 2002-2003 award year.

The Federal Perkins Loan, FWS, and FSEOG programs are authorized by parts E and C, and part A, subpart 3, respectively, of title IV of the Higher Education Act of 1965, as amended.

DATES: Closing Date for Submitting a FISAP and Required Signed Documents. To ensure consideration for 2002-2003 funds, an institution must submit an electronic FISAP and the combined certification and signature pages form by October 1, 2001.

An institution must submit its FISAP electronically via the Department's Student Aid Internet Gateway (formerly Title IV Wide Area Network or TIV WAN). Specific information and instructions on this electronic transmission are provided in “Dear Partner” letter CB-01-09 (JUL). This letter is posted at http://ifap.ed.gov.

The FISAP electronic data transmission must be completed by 11:59 p.m., Eastern Time, on October 1, 2001. In addition, the combined certification and signature pages form, as printed from the electronic FISAP software, must be mailed to the address indicated in the following paragraph by the established deadline date of October 1, 2001. Documents that are hand-delivered must be received by 5 p.m. on Monday, October 1, 2001.

ADDRESSES: Combined Certification and Signature Pages Form Delivered by Mail. If this document is delivered by mail, it must be addressed to Electronic FISAP Administrator, Suite 500, 8300 Colesville Road, Silver Spring, Maryland 20910-3289.

An institution must show proof of mailing this document by October 1, 2001. Proof of mailing consists of one of the following: (1) A legible mail receipt with the date of mailing stamped by the U.S. Postal Service, (2) a legibly dated U.S. Postal Service postmark, (3) a dated shipping label, invoice, or receipt from a commercial carrier, or (4) any other proof of mailing acceptable to the U.S. Secretary of Education.

If this document is sent through the U.S. Postal Service, the Secretary does not accept either of the following as proof of mailing: (1) A private metered postmark, or (2) a mail receipt that is not dated by the U.S. Postal Service. An institution should note that the U.S. Postal Service does not uniformly provide a dated postmark. Before relying on this method, an institution should check with its local post office. An institution is encouraged to use certified or at least first-class mail. Combined Certification and Signature Pages Form Delivered by Hand. If this document is delivered by hand, it must be taken to Universal Automation Labs (UAL), Suite 500, 8300 Colesville Road, Silver Spring, Maryland.

Documents that are hand-delivered will be accepted between 9 a.m. and 5 p.m. daily (Eastern time), except Saturdays, Sundays, and Federal holidays.

SUPPLEMENTARY INFORMATION: The 2002-2003 Campus-Based Programs FISAP Software, Instruction Book, and forms were made available in July 2001 at www.sfadownload.ed.gov and announced in “Dear Partner” Letter CB-01-09.

This program information package is intended to aid applicants in applying for assistance under these programs. Nothing in the program information package is intended to impose any paperwork, application content, reporting, or grantee performance requirements beyond those specifically imposed under the statute and regulations governing the programs.

Applicable Regulations

The following regulations apply to these programs:

(1) Student Assistance General Provisions, 34 CFR part 668.

(2) General Provisions for the Federal Perkins Loan Program, Federal Work-Study Program, and Federal Supplemental Educational Opportunity Grant Program, 34 CFR part 673.

(3) Federal Perkins Loan Program 34 CFR part 674.

(4) Federal Work-Study Programs, 34 CFR part 675.

(5) Federal Supplemental Educational Opportunity Grant Program, 34 CFR part 676.

(6) Institutional Eligibility Under the Higher Education Act of 1965, as Amended, 34 CFR part 600.

(7) New Restrictions on Lobbying, 34 CFR part 82.

(8) Governmentwide Debarment and Suspension (Nonprocurement) and Governmentwide Requirements for Drug-Free Workplace (Grants), 34 CFR part 85.

(9) Drug-Free Schools and Campuses, 34 CFR part 86.

FOR FURTHER INFORMATION CONTACT: Ms. Sandra Donelson, Campus-Based Operations, Student Financial Assistance, 400 Maryland Avenue, SW., Room 600D, Portals Building, Washington, DC 20202-5453. Telephone (202) 708-9751. If you use a telecommunications device for the deaf (TDD), you may call the Federal Information Relay Service (FIRS) at 1-800-877-8339.

Individuals with disabilities may obtain this document in an alternative format (e.g., Braille, large print, audiotape or computer diskette) on request to the contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free internet access to the official edition of the Federal Register and the Code of Federal Regulations is available on GPO Access at: http://www.access.gpo.gov/nara/index.html.

Program Authority: 20 U.S.C. 1087aa et seq.; 42 U.S.C. 2751 et seq.; and 20 U.S.C. 1070b et seq.

Dated: September 17, 2001.
Greg Woods,
Chief Operating Officer, Office of Student Financial Assistance.

[FR Doc. 01-23422 Filed 9-19-01; 8:45 am]

BILLING CODE 4000-01-U